FEDERAL ELECTION COMMISSION

Sunshine Act; Meetings

Date and Time: Tuesday, June 28, 2005, at 9:30 a.m. and Wednesday, June 29, 2005 at 9:30 a.m.

Place: 999 E Street, NW., Washington, DC (Ninth Floor).

Status: This hearing will be open to the public.

Matter Before the Commission: Internet Communications Notice of Proposed Rulemaking.

* * * * *

Previously Announced Date and Time: Thursday, June 30, 2005 at 10 a.m., meeting open to the public. This meeting has been cancelled.

* * * * *

Person To Contact For Information: Mr. Robert Biersack, Press Officer. Telephone: (202) 694-1220.

Mary W. Dove,
Secretary of the Commission.

[FR Doc. 05-12547 Filed 6-21-05; 12:12 pm]

BILLING CODE 6715-01-M